DEPARTMENT OF THE INTERIOR

National Park Service

36 CFR Part 7

Negotiated Rulemaking Advisory Committee for Off-Road Vehicle Management for Cape Hatteras National Seashore

AGENCY: National Park Service (NPS), Interior.

ACTION: Notice of Thirteenth Meeting.

SUMMARY: Notice is hereby given, in accordance with the Federal Advisory Committee Act (Pub. L. 92-463, 86 Stat. 770, 5 U.S.C. App 1, section 10), of the thirteenth meeting of the Negotiated Rulemaking Advisory Committee for Off-Road Vehicle Management at Cape Hatteras National Seashore.

DATES: The Committee will hold its thirteenth meeting on February 26-27, 2009, from 8:30 a.m. to 10 p.m. both days, if needed. The meeting will be held at the Wright Brothers National Memorial Pavilion, 1000 Croatan Highway (Milepost 7.6), Kill Devil Hills, North Carolina 25948.

These, and any subsequent meetings, will be held for the following reason: To work with the National Park Service to assist in potentially developing special regulations for off-road vehicle (ORV) management at Cape Hatteras National Seashore (Seashore).

The proposed agenda for the thirteenth meeting of the Committee may contain the following items: Approval of Meeting Summary from Last Meeting, Subcommittee and Members' Updates since Last Meeting, Alternatives Discussions, NEPA Update, and Public Comment. However, the Committee may modify its agenda during the course of its work. The meetings are open to the public. Interested persons may provide brief oral/written comments to the Committee during the public comment period of the meetings each day before the lunch break or may file written comments with the Park Superintendent.

FOR FURTHER INFORMATION CONTACT: Michael B. Murray, Superintendent, Cape Hatteras National Seashore, 1401 National Park Drive, Manteo, North Carolina 27954, (252) 473-2111, ext. 148.

SUPPLEMENTARY INFORMATION: The Committee's function is to assist directly in the development of special regulations for management of ORVs at the Seashore. Executive Order 11644, as amended by Executive Order 11989, requires certain Federal agencies to publish regulations that provide for administrative designation of the specific areas and trails on which ORV use may be permitted. In response, the NPS published a general regulation at 36 CFR 4.10, which provides that each park that designates routes and areas for ORV use must do so by promulgating a special regulation specific to that park. It also provides that the designation of routes and areas shall comply with Executive Order 11644, and 36 CFR 1.5 regarding closures. Members of the Committee will negotiate to reach consensus on concepts and language to be used as the basis for a proposed special regulation, to be published by the NPS in the Federal Register, governing ORV use at the Seashore. The duties of the Committee are solely advisory.

Dated: January 13, 2009.
Michael B. Murray,
Superintendent, Cape Hatteras National Seashore.

[FR Doc. E9-2043 Filed 1-29-09; 8:45 am]

BILLING CODE 4310-70-P